DEPARTMENT OF COMMERCE

International Trade Administration

[A-570-835, A-549-812]

Continuation of Antidumping Duty Orders: Furfuryl Alcohol From the People's Republic of China and Thailand

AGENCY: Import Administration, International Trade Administration, Department of Commerce.

ACTION: Notice of Continuation of Antidumping Duty Orders: Furfuryl Alcohol from the People's Republic of China and Thailand.

SUMMARY: On September 5, 2000, the Department of Commerce (“the Department”), pursuant to sections 751(c) and 752(c) of the Tariff Act of 1930, as amended (“the Act”), determined that revocation of the antidumping duty orders on furfuryl alcohol from the People's Republic of China (“PRC”) and Thailand would likely lead to continuation or recurrence of dumping (65 FR 53701). On April 26, 2001, the International Trade Commission (“the Commission”), pursuant to section 751(c) of the Act, determined that revocation of the antidumping duty orders on furfuryl alcohol from the PRC and Thailand would likely lead to continuation or recurrence of material injury to an industry in the United States within a reasonably foreseeable time (66 FR 21015). Therefore, pursuant to 751(d)(2) of the Act and 19 CFR 351.218(e)(4), the Department is publishing notice of the continuation of the antidumping duty orders on furfuryl alcohol from the PRC and Thailand.

Effective Date: May 4, 2001.

For Further Information Contact: Martha V. Douthit or James P. Maeder, Office of Policy for Import Administration, International Trade Administration, U.S. Department of Commerce, 14th Street and Constitution Ave., NW, Washington, DC 20230; telephone: (202) 482-5050 or (202) 482-3330, respectively.

SUPPLEMENTARY INFORMATION:

Background

On May 1, 2000, the Department initiated (65 FR 25309), and the Commission instituted (65 FR 25363), sunset reviews of the antidumping duty orders on furfuryl alcohol from the PRC and Thailand, pursuant to section 751(c) of the Act. As a result of its reviews, the Department found that revocation of the antidumping duty orders would likely lead to continuation or recurrence of dumping and notified the Commission of the magnitude of the margins likely to prevail were the orders to be revoked. See Furfuryl Alcohol From the People's Republic of China and Thailand; Final Results of Antidumping Duty Sunset Reviews, 65 FR 53701 (September 5, 2000).

On April 26, 2001, the Commission determined, pursuant to section 751(c) of the Act, that revocation of the antidumping duty orders on furfuryl alcohol from the PRC and Thailand would likely lead to continuation or recurrence of material injury to an industry in the United States within a reasonably foreseeable time. See Furfuryl Alcohol from China and Thailand,66 FR 21015 (April 26, 2001) and USITC Publication 3412 (April 2001), Investigations Nos. 731-TA-703 and 705 (Review).

Scope of the Orders

The merchandise covered in these antidumping duty orders is furfuryl alcohol (C⁴ H³ OCH²OH). Furfuryl alcohol is a primary alcohol and is colorless or pale yellow in appearance. It is used in the manufacture of resins and as a wetting agent and solvent for coating resins, nitrocellulose, cellulose acetate, and other soluble dyes. The product subject to these orders is classifiable under subheading 2932.13.00 of the Harmonized Tariff Schedule of the United States (“HTSUS”). Although the HTSUS subheading is provided for convenience and customs purposes, our written description of the scope of these orders is dispositive.

Determination

As a result of the determination by the Department and the Commission that revocation of the antidumping duty orders would likely lead to continuation or recurrence of dumping and material injury to an industry in the United States, pursuant to section 751(d)(2) of the Act, the Department hereby orders the continuation of the antidumping duty orders on furfuryl alcohol from the PRC and Thailand. The effective date of continuation of these orders will be the date of publication in the Federal Register of this Notice of Continuation. Pursuant to section 751(c)(2) of the Act, the Department intends to initiate the next five-year review of these orders no later than April 2006.

Effective January 20, 2001, Bernard T. Carreau is fulfilling the duties of the Assistant Secretary for Import Administration.

April 30, 2001.
Bernard T. Carreau,
Deputy Assistant Secretary, Group 1, Import Administration.

[FR Doc. 01-11308 Filed 5-3-01; 8:45 am]

BILLING CODE 3510-DS-P